DEPARTMENT OF AGRICULTURE

Submission for OMB Review; Comment Request

December 5, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal & Plant Health Inspection Service

Title: Certification Program for Imported Articles of Pelargonium spp. and Solanum spp. to Prevent Introduction of Potato Brown Rot.

OMB Control Number: 0579-0221.

Summary of Collection: Under the Plant Protection Act (7 U.S.C. 7701-7772), the Secretary of Agriculture is authorized to prohibit or restrict the importation of plants, plant products, and plant pest and other articles to prevent the introduction of plant pest into the United States. The regulations in 7 CFR part 319 include a certification program for articles of Pelargonium spp. and Solanum spp. imported from countries where the bacterium Ralstonia solanacearum race 3 biovar 2 is known to occur. This bacterial strain causes potato brown rot, which causes potatoes to rot through, making them unusable and seriously affecting potato yields.

Need and Use of the Information: The Animal Plant and Health Inspection Service (APHIS) require the collection of information through a phytosanitary certificate (foreign), trust funds, and compliance agreements. If the information is not collected, potato fields could become infected with the strain of R. solanacearum and this could drastically reduce or eliminate potato fields.

Description of Respondents: Business or other for-profit; State, Local or Tribal Government.

Number of Respondents: 27.

Frequency of Responses: Reporting: On occasion.

Total Burden Hours: 1,022.

Ruth Brown,
Departmental Information Collection Clearance Officer.

[FR Doc. E6-20938 Filed 12-8-06; 8:45 am]

BILLING CODE 3410-34-P